DEPARTMENT OF HEALTH AND HUMAN SERVICES

Centers for Disease Control and Prevention

Interagency Committee on Smoking and Health, (ICSH)

In accordance with section 10(a)(2) of the Federal Advisory Committee Act (Pub. L. 92-463), the Centers for Disease Control and Prevention (CDC), announces the following meeting of the aformentioned committee:

Time and Date: 9 a.m.-4:30 p.m., July 28, 2011.

Place: Capital Hilton, Federal AB Rooms, 1001 16th Street, NW., Washington, DC 20036-5701, Telephone: (202) 393-1000.

Status: Open to the public, limited only by the space available. Those who wish to attend are encouraged to register with the contact person listed below. If you will require a sign language interpretator, or have other special needs, please notify the contact person by 4:30 E.S.T. on July 18, 2011.

Purpose: The Interagency Committee on Smoking and Health advises the Secretary, Department of Health and Human Services, and the Assistant Secretary for Health in the (a) coordination of all research and education programs and other activities within the Department and with other federal, state, local and private agencies and (b) establishment and maintenance of liaison with appropriate private entities, Federal agencies, and State and local public health agencies with respect to smoking and health activities.

Matters To Be Discussed: The topic of the meeting will be “Tobacco-Use Cessation: Emerging Interventions and Innovations.” The meeting will focus on emerging and innovative practices to expand access to and improve the effectiveness of tobacco-use cessation interventions in areas such as low-income smokers and smokers suffering from mental disease. Panel discussions will be held to highlight Federal, State and local efforts in place to address these disparities.

Agenda items are subject to change as priorities dictate.

Substantive program information as well as summaries of the meeting and roster of committee members may be obtained from the Internet at http://www.cdc.gov/tobacco mid-September 2011 or the contact person listed below.

Contact Person for More Information: Monica L. Swann, Management and Program Analyst, Office on Smoking and Health, CDC, 4770 Buford Highway, Mailstop: K-50, Atlanta, Georgia 30341, Telephone: (770) 488-5278.

The Director, Management Analysis and Services Office, has been delegated the authority to sign Federal Register notices pertaining to announcements of meetings and other committee management activities, for both the Centers for Disease Control and Prevention and the Agency for Toxic Substances and Disease Registry.

Dated: June 16, 2011.
Elaine L. Baker,
Director, Management Analysis and Service Office, Centers for Disease Control and Prevention.

[FR Doc. 2011-15838 Filed 6-23-11; 8:45 am]

BILLING CODE 4163-18-P